COMMITTEE FOR PURCHASE FROM PEOPLE WHO ARE BLIND OR SEVERELY DISABLED

Procurement List; Addition

AGENCY: Committee for Purchase From People Who Are Blind or Severely Disabled.

ACTION: Addition to from the Procurement List.

SUMMARY: This action adds a service to the Procurement List that will be provided by a nonprofit agency employing persons who are blind or have other severe disabilities.

DATES: Date added to the Procurement List: February 28, 2018

ADDRESSES: Committee for Purchase From People Who Are Blind or Severely Disabled, 1401 S Clark Street, Suite 715, Arlington, Virginia, 22202-4149.

FOR FURTHER INFORMATION CONTACT: Amy B. Jensen, Telephone: (703) 603-7740, Fax: (703) 603-0655, or email CMTEFedReg@AbilityOne.gov.

SUPPLEMENTARY INFORMATION:

Addition

On 11/27/2017 (82 FR 226), the Committee for Purchase From People Who Are Blind or Severely Disabled published a notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Grounds Maintenance Service

Mandatory for: US Navy NAVFAC Mid Atlantic, Greater Sandy Run Area, Camp Davis, Onslow Beach, Wilson Bay, Hwy 24 Bell Fork foot Bridge & Verona Loop, Marine Corps Base, 1005 Michael Road, Camp Lejeune, NC

Mandatory Source of Supply: Coastal Enterprises of Jacksonville, Inc., Jacksonville, NC

Contracting Activity: Dept of the Navy, NAVAL FAC ENGINEERING CMD MID LANT

Comment: The Committee finds good cause to dispense with the 30-day delay in the effective date normally required by the Administrative Procedure Act. See 5 U.S.C. 553(d). This addition to the Committee's Procurement List is effectuated because of the expiration of the U.S. Navy NAVFAC Mid Atlantic Grounds Maintenance Service contract. The Federal customer contacted, and has worked diligently with the AbilityOne Program to fulfill this service need under the AbilityOne Program. To avoid performance disruption, and the possibility that the U.S. Navy will refer its business elsewhere, this addition must be effective on February 28, 2018, ensuring timely execution for a March 1, 2018 start date while still allowing 11 days for comment. Pursuant to its own regulation 41 CFR 51-2.4, the Committee has been in contact with one of the affected parties, the incumbent of the expiring contract since July 2017 and determined that no severe adverse impact exists. The Committee also published a notice of proposed Procurement List addition in the Federal Register on November 27, 2017, and did not receive any comments from any interested persons, including from the incumbent contractor. This addition will not create a public hardship and has limited effect on the public at large, but, rather, will create new jobs for other affected parties—people with significant disabilities in the AbilityOne Program who otherwise face challenges locating employment. Moreover, this addition will enable Federal customer operations to continue without interruption.

Amy B. Jensen,
Director, Business Operations.

[FR Doc. 2018-03272 Filed 2-15-18; 8:45 am]

BILLING CODE 6353-01-P